DEPARTMENT OF TRANSPORTATION

Pipeline and Hazardous Materials Safety Administration

[Docket ID PHMSA-RSPA-2004-19854]

Pipeline Safety: Installation of Excess Flow Valves into Gas Service Lines

AGENCY: Pipeline and Hazardous Materials Safety Administration (PHMSA), DOT.

ACTION: Notice; Issuance of Advisory Bulletin.

SUMMARY: This document advises operators of gas distribution pipeline systems of a statutory requirement for installation of excess flow valves in certain gas service lines.

FOR FURTHER INFORMATION CONTACT: Mike Israni by phone at (202) 366-4571 or by e-mail at mike.israni@dot.gov.

SUPPLEMENTARY INFORMATION:

I. Background

The Pipeline Inspection, Protection, Enforcement, and Safety (PIPES) Act of 2006 (Pub. L. 109-468) addresses the installation of excess flow valves (EFV) in certain gas service lines. An EFV is a safety device that can terminate flow of gas through a pipeline when the flow rate exceeds its design level, such as when the pipe ruptures or is broken (e.g., by excavation damage) downstream of the valve. A service line is a small-diameter pipeline that carries gas from a distribution main (often located below city streets) to individual residences and businesses where gas is used. Thus, EFVs can protect individual gas customer properties from the consequences of a break in the service line associated with their property.

Section 9 of the PIPES Act directs PHMSA to require operators of natural gas distribution systems to install EFVs in selected service lines that are installed or entirely replaced after June 1, 2008. The requirement applies to those service lines that operate continuously throughout the year at a pressure not less than 10 pounds per square inch (psi), that are not connected to a gas stream with respect to which the operator has had prior experience of contaminants that could interfere with operation of an EFV, where the installation of an EFV is not likely to result in a loss of service or interference with required maintenance actions, and where a valve of appropriate size and performance is commercially available. The PIPES Act directs PHMSA to include this requirement in a regulation requiring that distribution pipeline system operators establish integrity management programs.

PHMSA is still working on its proposed regulation addressing distribution integrity management programs (DIMP). That regulation is complex and has taken longer than anticipated to develop. As a result, the regulation will not be in place before the June 1, 2008, deadline specified in the Act for installation of EFVs on the affected service lines. Nevertheless, gas distribution pipeline operators should be aware of the statutory requirement and are encouraged to install EFVs on service lines that are newly installed or completely replaced after June 1, 2008, and that meet the criteria specified in the PIPES Act.

II. Advisory Bulletin (ADB-08-04)

To: Operators of Gas Distribution Pipelines.

Subject: Installation of Excess Flow Valves into Gas Service Lines.

Purpose: To advise gas distribution pipeline operators of a statutory requirement to install excess flow valves in selected gas service lines.

Advisory: The Pipeline Inspection, Protection, Enforcement, and Safety (PIPES) Act of 2006 (Pub. L. 109-468) mandates that PHMSA require operators of natural gas distribution systems to install excess flow valves (EFV) on certain gas service lines. The statute directs that installation of EFVs will be required on single family residence service lines:

• That are installed or entirely replaced after June 1, 2008;

• That operate continuously throughout the year at a pressure not less than 10 psi gauge;

• That are not connected to a gas stream with respect to which the operator has had prior experience with contaminants the presence of which could interfere with the operation of an EFV, and

• For which an excess flow valve meeting the performance standards of 49 CFR 192.381 is commercially available.

The PIPES Act directs the Pipeline and Hazardous Materials Safety Administration (PHMSA) to include this requirement in a regulation addressing distribution integrity management programs (DIMP). PHMSA is working on its DIMP regulation and expects a proposed rule to be published shortly. PHMSA intends to analyze public comments and prepare a final rule in an expeditious manner. It is apparent, however, that the final rule cannot be in place before the June 1, 2008, deadline for EFV installation that is in the Act.

PHMSA encourages all gas distribution pipeline operators to take actions to ensure that EFVs are installed on the appropriate service lines that are installed or completely replaced after June 1, 2008.

Issued in Washington, DC, on May 30, 2008.
William H. Gute,
Deputy Associate Administrator for Pipeline Safety.

[FR Doc. E8-12566 Filed 6-4-08; 8:45 am]

BILLING CODE 4910-60-P